DEPARTMENT OF ENERGY

Office of Fossil Energy, Certification Notice—212; Notice of Filings of Coal Capability Powerplant and Industrial Fuel Use Act

AGENCY: Office of Fossil Energy, Department of Energy.

ACTION: Notice of filings.

SUMMARY: The owners or operators of twelve baseload electric powerplants have submitted coal capability self-certifications pursuant to section 201 of the Powerplant and Industrial Fuel Use Act of 1978 (FUA) and Department of Energy (DOE) regulations in 10 CFR 501.60, 61.

ADDRESSES: Copies of self-certification filings are available for public inspection, upon request, in the Office of Electricity Delivery and Energy Reliability, Room 8G-026, Forrestal Building, 1000 Independence Avenue, SW., Washington, DC 20585.

FOR FURTHER INFORMATION CONTACT: Ellen Russell at (202) 586-9624.

SUPPLEMENTARY INFORMATION: Title II of FUA, as amended (42 U.S.C. 8301 et seq.), provides that no new baseload electric powerplants may be constructed or operated without the capability to use coal or another alternate fuel as a primary energy source. Pursuant to FUA section 201(d), in order to meet the requirement of coal capability, the owner or operator of such facilities proposing to use natural gas or petroleum as its primary energy source shall certify to the Secretary of Energy (Secretary) prior to construction, or prior to operation as a base load electric powerplant, that such powerplant has the capability to use coal or another alternate fuel. Such certification establishes compliance with FUA section 201(a) as of the date filed with the Secretary. The Secretary is required to publish a notice in the Federal Register that a certification has been filed. The following owners of proposed new baseload electric powerplants have filed self-certifications pursuant to FUA section 201(d) and in accordance with DOE regulations in 10 CFR 501.60, 61.

Owner | Capacity (MW) | Plant location | In-service date
Freeport Energy Center, L.P | 265 | Freeport, TX | June 2005.
Mankato Energy Center, LLC | 505 | Mankato, MN | June 2006.
MEP Pleasant Hill, LLC | 585 | Pleasant Hill, MO | Phase I: June 2001. Phase II: Feb. 2002.
Bethpage Energy Center 3, LLC | 79.9 | Hicksville, NY | June 2005.
Consolidated Edison Company of New York Inc | 360 | New York, NY | First Qtr. 2005.
Brazos Valley Energy LP | 508 | Richmond, TX | May 2003.
Florida Municipal Power Agency | 48 | Key West, FL | April 10, 2006.
Bridgeport Energy, LLC | 490 | Bridgeport, CT | July 1999.
Duke Energy Moss Landings | 1,020 | Moss Landing, CA | July 2002.
Florida Municipal Power Agency | 300 | Fort Pierce, FL | May 1, 2008.
Caithness Long Island, LLC | 346 | Yaphank, NY | July 1, 2009.
Plains End II, LLC | 118 | Golden, CO | May 2008.

Issued in Washington, DC, on April 24, 2007.
Anthony J. Como,
Director, Permitting and Siting, Office of Electricity Delivery and Energy Reliability.

[FR Doc. E7-8267 Filed 4-30-07; 8:45 am]

BILLING CODE 6450-01-P